DEPARTMENT OF COMMERCE

National Oceanic and Atmospheric Administration

[RTID 0648-XC574]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee, including joint sessions with the Atlantic States Marine Fisheries Commission's (ASMFC) Summer Flounder, Scup, and Black Sea Bass Management Board and the ASMFC Interstate Fishery Management Program Policy Board.

DATES: The meetings will be held Monday, December 12, 2022 through Thursday, December 15, 2022. For agenda details, see SUPPLEMENTARY INFORMATION.

ADDRESSES: This meeting will be conducted in a hybrid format, with options for both in person and webinar participation.

Meeting address: The meeting will be held at the Westin Annapolis, 100 Westgate Circle, Annapolis, MD 21401; telephone: (410) 972-4300.

Webinar registration details will be available on the Council's website at https://www.mafmc.org/briefing/december-2022.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Monday, December 12, 2022

Executive Committee (Closed Session)

Ricks E Savage Award

Council Convenes

Habitat Activities Update

Presentation from Greater Atlantic Regional Fisheries Office Habitat and Ecosystem Services Division on activities of interest (aquaculture, wind, and other projects) in the region

Offshore Wind Updates

Updates from the Bureau of Ocean Energy Management (Karen Baker, BOEM Chief—Office of Renewable Energy Programs)

Updates on state working group on a fisheries compensation fund

Atlantic Surfclam and Ocean Quahog Species Separation Requirements Amendment Final Action

Review public hearing comments

Review Committee and Staff recommendations

Consider final action

Tuesday, December 13, 2022

Council Convenes With the Atlantic States Marine Fisheries Commission's (ASMFC) Summer Flounder, Scup, and Black Sea Bass Management Board

Harvest Control Rule Framework/Addendum Percent Change Approach and Recreational Fishery Models

Review the Percent Change Approach approved by the Council and Policy Board for setting recreational measures for summer flounder, scup, and black sea bass

Review Accountability Measures under the Percent Change Approach

Overview of recreational fishery statistical models to inform setting of 2023 measures

2023 Scup Recreational Measures

Review Advisory Panel and Monitoring Committee recommendations

Adopt target level of coastwide harvest based on the Harvest Control Rule Framework/Addendum Percent Change Approach

Recommend 2023 recreational management measures for Federal waters, as well as any considerations for adjustments to state/regional measures

2023 Black Sea Bass Recreational Measures

Review Advisory Panel and Monitoring Committee recommendations

Adopt target level of coastwide harvest based on the Harvest Control Rule Framework/Addendum Percent Change Approach

Recommend conservation equivalency or coastwide management and associated measures for 2023

Review and consider approval of Virginia's proposal for February 2023 recreational fishery (Board only)

2023 Summer Flounder Recreational Measures

Review Advisory Panel and Monitoring Committee recommendations

Adopt target level of coastwide harvest based on the Harvest Control Rule Framework/Addendum Percent Change Approach

Recommend conservation equivalency or coastwide management and associated measures for 2023

Council and Summer Flounder, Scup, and Black Sea Bass Board Adjourn

Council Convenes with the ASMFC Interstate Fishery Management Program Policy Board

Previously Initiated Recreational Reform Actions

Review issues to be addressed under Recreational Reform Initiative Technical Guidance Document and Recreational Sector Separation and Catch Accounting Amendment

Discuss and provide guidance on next steps

Council and Policy Board Adjourn

Wednesday, December 14, 2022

Climate Change Scenario Planning: Review Final Scenarios and Discuss Applications

(Jonathan Star, Scenario Insight)

Review final scenarios

Review and discuss initial challenges, opportunities, and potential actions identified at Manager Brainstorming Sessions

Discuss recurring ideas and main takeaways, and identify key discussion topics for February summit meeting

Monkfish Framework 13: 2023-25 Specifications and Management Measures

Review Framework 13, including recommendations from the Advisory Panel, New England SSC, Joint Committee, and PDT

Review motions from the New England Fishery Management Council

Approve Framework 13

Protected Resources Updates

Review Protected Resources Committee Meeting Report and November/December ALWTRT meeting outcomes

Discuss final Sturgeon Bycatch Action Plan recommendations and potential joint action with NEFMC

2023 Implementation Plan

Review and approve 2023 Implementation Plan

Thursday, December 15, 2022

Proposed Hudson Canyon National Marine Sanctuary

Presentation from LeAnn Hogan (Regional Operations Coordinator for NOAA Sanctuaries Eastern Region) on the proposed sanctuary and the NMSA section 304(a)(5) consultation process with Councils

Develop Council recommendations to NOAA Sanctuaries on whether it is necessary to develop fishing regulations in the EEZ to implement the proposed sanctuary

Business Session

Committee Reports (SSC, Ecosystem and Ocean Planning Committee, Mackerel, Squid, Butterfish Committee—Illex Permit Action disapproval follow-up);

Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

Authority: 16 U.S.C. 1801 et seq.

Dated: November 22, 2022.
Rey Israel Marquez,
Acting Deputy Director, Office of Sustainable Fisheries, National Marine Fisheries Service.

[FR Doc. 2022-25886 Filed 11-25-22; 8:45 am]

BILLING CODE 3510-22-P